DEPARTMENT OF ENERGY

Federal Energy Regulatory Commission

Combined Notice of Filings #1

Take notice that the Commission received the following exempt wholesale generator filings:

Docket Numbers: EG11-129-000.

Applicants: Vasco Winds, LLC.

Description: Notice of Self-Certification of Exempt Wholesale Generator Status of Vasco Winds, LLC.

Filed Date: 09/27/2011.

Accession Numbers: 20110927-5045.

Comment Date: 5 p.m. Eastern Time on Tuesday, October 18, 2011.

Docket Numbers: EG11-130-000.

Applicants: NextEra Energy Montezuma II Wind, LLC.

Description: Notice of Self-Certification of Exempt Wholesale Generator Status of NextEra Energy Montezuma II Wind, LLC.

Filed Date: 09/27/2011.

Accession Numbers: 20110927-5046.

Comment Date: 5 p.m. Eastern Time on Tuesday, October 18, 2011.

Docket Numbers: EG11-131-000.

Applicants: Richland-Stryker Generation LLC.

Description: Notice of Self-Certification of Exempt Wholesale Generator Status of Richland-Stryker Generation LLC .

Filed Date: 09/27/2011.

Accession Numbers: 20110927-5145.

Comment Date: 5 p.m. Eastern Time on Tuesday, October 18, 2011.

Take notice that the Commission received the following electric rate filings:

Docket Numbers: ER11-4254-002.

Applicants: New England Power Company.

Description: New England Power Company submits tariff filing per 35.17(b): Corrected Amendment to Filing of Interconnection Agreement with Lowell Cogen to be effective 10/1/2011.

Filed Date: 09/27/2011.

Accession Numbers: 20110927-5039.

Comment Date: 5 p.m. Eastern Time on Tuesday, October 18, 2011.

Docket Numbers: ER11-4646-000.

Applicants: PJM Interconnection, L.L.C.

Description: PJM Interconnection, L.L.C. submits tariff filing per 35.13(a)(2)(iii: Queue No. W1-124; Original Service Agreement No. 3061 to be effective 8/30/2011.

Filed Date: 09/27/2011.

Accession Numbers: 20110927-5030.

Comment Date: 5 p.m. Eastern Time on Tuesday, October 18, 2011.

Docket Numbers: ER11-4647-000.

Applicants: UP Power Marketing.

Description: UP Power Marketing submits tariff filing per 35.1: Market-Based Rate Tariff Baseline to be effective 9/27/2011.

Filed Date: 09/27/2011.

Accession Numbers: 20110927-5040.

Comment Date: 5 p.m. Eastern Time on Tuesday, October 18, 2011.

Docket Numbers: ER11-4648-000.

Applicants: L'Anse Warden Electric Company.

Description: L'Anse Warden Electric Company submits tariff filing per 35.1: Market-Based Rate Tariff Baseline to be effective 9/27/2011.

Filed Date: 09/27/2011.

Accession Numbers: 20110927-5041.

Comment Date: 5 p.m. Eastern Time on Tuesday, October 18, 2011.

Docket Numbers: ER11-4649-000.

Applicants: PacifiCorp.

Description: PacifiCorp submits tariff filing per 35.12: BPA Residential Exchange Settlement Implementation Agreement to be effective 10/1/2011.

Filed Date: 09/27/2011.

Accession Numbers: 20110927-5069.

Comment Date: 5 p.m. Eastern Time on Tuesday, October 18, 2011.

Docket Numbers: ER11-4650-000.

Applicants: Avista Corporation.

Description: Avista Corporation submits tariff filing per 35.13(a)(2)(iii: Avista Corp FERC Rate Schedule No. 184 to be effective 10/1/2011.

Filed Date: 09/27/2011.

Accession Numbers: 20110927-5072.

Comment Date: 5 p.m. Eastern Time on Tuesday, October 18, 2011.

Docket Numbers: ER11-4651-000.

Applicants: Ford Motor Company.

Description: Notice of Termination of Ford Motor Company.

Filed Date: 09/27/2011.

Accession Numbers: 20110927-5136.

Comment Date: 5 p.m. Eastern Time on Tuesday, October 18, 2011.

Take notice that the Commission received the following electric securities filings:

Docket Numbers: ES11-42-000.

Applicants: Interstate Power and Light Company.

Description: Interstate Power and Light Company submits Amendment to Form 523 Application for authorization to issue securities and request for waiver of competitive bidding requirements.

Filed Date: 09/23/2011.

Accession Numbers: 20110923-5102.

Comment Date: 5 p.m. Eastern Time on Wednesday, October 5, 2011.

Docket Numbers: ES11-50-000.

Applicants: AEP Generating Company, AEP Texas North Company, AEP Texas Central Company, Appalachian Power Company, Indiana Michigan Power Company, Kentucky Power Company, Kingsport Power Company, Public Service Company of Oklahoma, Southwestern Electric Power Company, Wheeling Power Company.

Description: Application Under Section 204 of the Federal Power Act for Authorization to Issue Securities of AEP Generating Company et al.

Filed Date: 09/27/2011.

Accession Numbers: 20110927-5132.

Comment Date: 5 p.m. Eastern Time on Tuesday, October 18, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2011.
Nathaniel J. Davis, Sr.,
Deputy Secretary.

[FR Doc. 2011-26076 Filed 10-7-11; 8:45 am]

BILLING CODE 6717-01-P